DEPARTMENT OF LABOR

Employment and Training Administration

[TA-W-81,776]

HCL America, Inc., a Subsidiary of HCL Technologies Limited, Including On-Site Leased Workers From Xerox Corporation, V Dart Inc., KRG Technologies Inc., Genuent Inc., Including Workers Whose Unemployment Insurance (UI) Wages are Reported Through Genuent IT Fluency, Also Known as Genuent, Formerly Know as Segula Technologies, BMC Corporation Professional Services and Fusion Storm, Webster, New York; Amended Certification Regarding Eligibility to Apply for Worker Adjustment Assistance

In accordance with Section 223 of the Trade Act of 1974, as amended (“Act”), 19 U.S.C. 2273, the Department of Labor (Department) issued a Certification of Eligibility to Apply for Worker Adjustment Assistance on August 3, 2012, applicable to the workers of HCL America Inc., a subsidiary of HCL Technologies Limited, Webster, New York (subject firm). Workers are engaged in activities related to the supply of application support and development services and infrastructure services (hardware/software testing) for clients. The Department's Notice of determination was published in the Federal Register on August 16, 2012 (77 FR 49459). The notice was amended on February 6, 2013 to include at the Wilsonville, Oregon facility that operated in conjunction with workers at the Webster, New York facility. The amended notice was published in the Federal Register on February 22, 2013 (78 FR 12358-12359).

New information revealed that in January of 2012, Genuent, acquired Segula Technologies. Genuent workers separated from employment at the Webster, New York location of HCL America, Inc., a subsidiary of HCL Technologies Limited had their wages reported through a separate unemployment insurance (UI) tax account under the name Genuent IT Fluency, also known as Genuent, formerly known as Segula Technologies.

Accordingly, the Department is amended this certification to include workers of the subject firm whose unemployment insurance (UI) wages are reported through Segula Technologies

The intent of the Department's certification is to include all workers of HCL America, Inc., Webster, New York (TA-W-81,776) and Wilsonville, Oregon (TA-W-81,776A), who were all adversely affected by an acquisition of application support and development services and infrastructure services from India.

The amended notice applicable to TA-W-81,776 is hereby issued as follows:

All workers of HCL America Inc., a subsidiary of HCL Technologies Limited, including on-site leased workers from Xerox Corporation, V Dart, Inc., KRG Technologies, Inc., Genuent, Inc., including workers whose unemployment insurance (UI) wages are reported through Genuent IT Fluency, also known as Genuent, formerly known as Segula Technologies, BMC Corporation Professional Services, and Fusion Storm, Webster, New York (TA-W-81,776) and all workers of HCL America, Inc., a subsidiary of HCL Technologies Limited, Wilsonville, Oregon (TA-W-81,776A), who became totally or partially separated from employment on or after July 3, 2011 through August 3, 2014, and all workers in the group threatened with partial or total separation from employment on August 3, 2012 through August 3, 2014, are eligible to apply for adjustment assistance under Chapter 2 of Title II of the Trade Act of 1974, as amended.

Signed at Washington, DC, this 3rd day of April, 2013.
Del Min Amy Chen,
Certifying Officer, Office of Trade Adjustment Assistance.

[FR Doc. 2013-08927 Filed 4-16-13; 8:45 am]

BILLING CODE 4510-FN-P